DEPARTMENT OF TRANSPORTATION

Federal Aviation Administration

Availability of Draft Alternatives Working Paper for the Proposed Southern Nevada Supplemental Airport, Las Vegas, Clark County, NV Correction

AGENCY: Federal Aviation Administration.

ACTION: Notice of Availability of Draft Alternatives Working Paper, correction.

SUMMARY: The Federal Aviation Administration (FAA) in cooperation with the Bureau of Land Management (BLM) issued a notice of Availability of Draft Alternatives Working Paper that was published in the Federal Register on August 4, 2008 (73 FR 45268). That notice advised the public the Draft Alternatives Working Paper for the Draft EIS will be made available for public comment pursuant to section 304 of the Vision 100 Century of Aviation Act of 2003 (Pub. L. 108-176) [49 U.S.C. 47171(I)]. This notice corrects the days of the comment period from 30 days to 60 days.

FOR FURTHER INFORMATION CONTACT: David B. Kessler, AICP, Project Manager, Southern Nevada Supplemental Airport EIS, AWP-610.1, Airports Division, Federal Aviation Administration, Western-Pacific Region, P.O. Box 92007, Los Angeles, California 90009-2007, Telephone: 310/725-3615. Comments on the draft Alternatives Working Paper should be submitted to the address above and must be received no later than 5 p.m. Pacific Standard Time, Friday, October 3, 2008.

The Draft Alternatives Working Paper will be available for public comment for 60 days. Written comments on the Draft Alternatives Working Paper should be submitted to the address above under the heading FOR FURTHER INFORMATION CONTACT and must be received no later than 5 p.m. Pacific Standard Time, Friday, October 3, 2008.

Issued in Hawthorne, California, on August 5, 2008.
Mark A. McClardy,
Manager, Airports Division, Western-Pacific Region, AWP-600.

[FR Doc. E8-18634 Filed 8-13-08; 8:45 am]

BILLING CODE 4910-13-P